DEPARTMENT OF TRANSPORTATION

National Highway Traffic Safety Administration

[Docket No. NHTSA 2005-21925; Notice 2]

Continental Tire North America, Inc., Grant of Petition for Decision of Inconsequential Noncompliance

Continental Tire North America, Inc. (Continental) has determined that certain tires that it produced do not comply with S6.5 of 49 CFR 571.119, Federal Motor Vehicle Safety Standard (FMVSS) No. 119, “New pneumatic tires for vehicles other than passenger cars.” Pursuant to 49 U.S.C. 30118(d) and 30120(h), Continental has petitioned for a determination that this noncompliance is inconsequential to motor vehicle safety and has filed an appropriate report pursuant to 49 CFR part 573, “Defect and Noncompliance Reports.” Notice of receipt of a petition was published, with a 30-day comment period, on July 27, 2005, in the Federal Register (70 FR 43507). NHTSA received no comments.

Affected are a total of approximately 430 tires produced on May 24, 2005. One requirement of S6.5 of FMVSS No. 119, tire markings, is that the tire identification shall comply with 49 CFR part 574, “Tire Identification and Recordkeeping,” which includes the marking requirements of 574.5(b) DOT size code, and 574.5(c) DOT tire type. The subject tires are incorrectly marked for both size code and tire type. The markings read “A3 3T 1WP XXXX” when they should read “A3 55 1N1 XXXX.”

Continental Tire explained:

[T]he curing mold used in the production of the tires was being serviced. During the service, the interchangeable plugs that contain the DOT size and type information came out of the mold. The individual replacing the plugs inserted plugs engraved with the incorrect information. The noncompliance was discovered after 430 tires had been cured in this mold.

Continental Tire believes that the noncompliance is inconsequential to motor vehicle safety and that no corrective action is warranted. Continental Tire stated that “[a]ll other sidewall identification markings and safety information are correct, referring to recognizable size markings and load carrying capacities. A consumer or dealer examining the DOT Code could still determine the correct manufacturing plant and correct manufacturing date.”

NHTSA agrees with Continental that the noncompliance is inconsequential to motor vehicle safety. As Continental points out, the tires do have markings which provide the correct size and load carrying capacities, and the correct manufacturing plant and date can be determined. Therefore, there should be no confusion by the user of this information, and Continental should be able to identify the tires in the event of recall. Continental has corrected the problem.

In consideration of the foregoing, NHTSA has decided that the petitioner has met its burden of persuasion that the noncompliance described is inconsequential to motor vehicle safety. Accordingly, Continental's petition is granted and the petitioner is exempted from the obligation of providing notification of, and a remedy for, the noncompliance.

(Authority: 49 U.S.C. 30118, 30120; delegations of authority at CFR 1.50 and 501.8)

Issued on: September 2, 2005.
Ronald L. Medford,
Senior Associate Administrator for Vehicle Safety.

[FR Doc. 05-17902 Filed 9-8-05; 8:45 am]

BILLING CODE 4910-59-P